NUCLEAR REGULATORY COMMISSION

[Docket No. PAPO-00; ASLBP No. 04-829-01-PAPO]

Atomic Safety and Licensing Board; In the Matter of U.S. Department of Energy (High Level Waste Repository: Pre-Application Matters); Order (Scheduling Case Management Conference)

April 13, 2005.

Before Administrative Judges: Thomas S. Moore, Chairman, Alex S. Karlin, Alan S. Rosenthal.

The Pre-License Application Presiding Officer Board will hold a case management conference at 9 a.m. EDT on May 4, 2005 in the Atomic Safety and Licensing Board Panel's hearing room, third floor, Two White Flint North, 11545 Rockville Pike, Rockville, Maryland. Counsel for the United States Department of Energy (DOE), the NRC Staff, and the State of Nevada (State) shall attend and participate in the conference. Because DOE, the NRC Staff, and the State are all represented by multiple counsel, the Board expects there will not be any motions to alter the conference date. Counsel for any other potential participants, interested Indian Tribes, and interested units of local government (collectively Potential Participants) are encouraged to attend. Even though no Potential Participants submitted proposed case management orders on the subject of privilege log formats and procedures pursuant to the Board's January 24, 2005 First Case Management Order or subsequent March 11, 2005 Order, the Potential Participants, at the discretion of the Board, may be allowed to participate in the conference.

The Administrator of the Licensing Support Network (LSN) shall also attend to respond to Board and participant questions concerning the design capabilities of the LSN and to provide technical information and recommendations regarding those portions of the proposed case management order submitted by DOE and the NRC Staff impacting the LSN. In this regard, DOE, the NRC Staff, and the State shall each have in attendance their respective information technology data management specialist or administrator who can address computer hardware and software issues that may arise in the development and use of electronic privilege logs and procedures. Counsel for Potential Participants are similarly encouraged to bring their respective information technology data management specialist or administrator to the conference.

The Board will issue a subsequent order detailing the matters that DOE, the NRC Staff, the State, and counsel for Potential Participants should be prepared to discuss. The Board intends to conduct the conference quickly and efficiently but notes that the number of subjects to be covered may make it necessary to reconvene following a recess for lunch. All attendees should plan accordingly.

To expedite entry into the NRC headquarters complex, counsel for DOE, the NRC Staff, and the State should, no later than 3 p.m. EDT on Monday, May 2, 2005, e-mail the Board (PAPO@nrc.gov) a list of names of all persons associated with that participant that will be attending the hearing. Counsel for Potential Participants and any member of the public who wish to expedite his or her entry into the building on May 4 also should e-mail a similar preregistration. In preregistering, counsel should recognize that the seating capacity of the ASLBP hearing room is not unlimited.

Upon arrival at the main entrance of the NRC headquarters Two White Flint North building on May 4, all participants and members of the public seeking to attend the conference shall be required to present photo identification and then undergo security screening. All non-NRC employees must be escorted to the hearing room by an authorized NRC employee. Because of the time required for the security procedures, all counsel should arrive no later than 8:30 a.m. on May 4, 2005 in order not to delay the conference. Similarly, the members of the public also should arrive early in order to gain on-time admission to the hearing room.

It is so ordered.

Issued in Rockville, Maryland, on April 13, 2005.
For the Pre-License Application Presiding Officer Board.
Thomas S. Moore,
Chairman, Administrative Judge.

[FR Doc. E5-1850 Filed 4-19-05; 8:45 am]

BILLING CODE 7590-01-P